NUCLEAR REGULATORY COMMISSION

[Docket Nos. 50-413 and 50-414; NRC-2017-0097]

Duke Energy Carolinas, LLC; Catawba Nuclear Station, Units 1 and 2

AGENCY: Nuclear Regulatory Commission.

ACTION: License amendment application; withdrawal by applicant.

SUMMARY: The U.S. Nuclear Regulatory Commission (NRC) has granted the request of Duke Energy Carolinas, LLC to withdraw its application dated May 26, 2016, for a proposed amendment to Facility Operating License Nos. NPF-35 and NPF-52. The proposed amendment would have revised the Updated Final Safety Analysis Report (UFSAR) to add descriptions to several sections of the UFSAR to clarify how a shutdown unit supplying either it's normal or emergency power source may be credited for operability of shared components supporting the operating unit.

DATES: April 13, 2017.

ADDRESSES: Please refer to Docket ID NRC-2017-0097 when contacting the NRC about the availability of information regarding this document. You may obtain publicly-available information related to this document using any of the following methods:

• Federal Rulemaking Web site: Go to http://www.regulations.gov and search for Docket ID NRC-2017-0097. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Michael Mahoney, Office of Nuclear Reactor Regulation, U.S. Nuclear Regulatory Commission, Washington, DC 20555-0001; telephone 301-415-3857, email: Michael.Mahoney@nrc.gov.

SUPPLEMENTARY INFORMATION: The NRC has granted the request of Duke Energy Carolinas, LLC (the licensee) to withdraw its May 26, 2016, application (ADAMS Accession No. ML16147A105) for proposed amendment to Facility Operating License No. NPF-35 and NPF-52 for the Catawba Nuclear Station, Units 1 and 2, located in York County, South Carolina.

The proposed amendment would have revised the Updated Final Safety Analysis Report (UFSAR) to add descriptions to several sections of the UFSAR to clarify how a shutdown unit supplying either it's normal or emergency power source may be credited for operability of shared components supporting the operating unit.

The licensee's application was previously noticed in the Federal Register on August 2, 2016 (81 FR 50731). The licensee provided responses to NRC staff requests for additional information related to this action on November 10, 2016 and February 13, 2017 (ADAMS Accession Nos. ML16315A411 and ML17045A363, respectively), and a request to withdraw the application on March 23, 2017 (ADAMS Accession No. ML17083A077).

Dated at Rockville, Maryland, this 5th day of April 2017.
For the Nuclear Regulatory Commission.
Michael Mahoney,
Project Manager, Plant Licensing Branch II-1, Division of Operating Reactor Licensing, Office of Nuclear Reactor Regulation.

[FR Doc. 2017-07504 Filed 4-12-17; 8:45 am]

BILLING CODE 7590-01-P